DEPARTMENT OF HEALTH AND HUMAN SERVICES

Centers for Disease Control and Prevention

Lead Exposure and Prevention Advisory Committee (LEPAC)

AGENCY: Centers for Disease Control and Prevention (CDC), Department of Health and Human Services (HHS).

ACTION: Notice of meeting.

SUMMARY: In accordance with the Federal Advisory Committee Act, the CDC announces the following meeting for the Lead Exposure and Prevention Advisory Committee (LEPAC). This meeting is open to the public by teleconference but advance registration by April 30, 2021, is needed to receive the information to join the meeting. The registration link is https://rossstrategic.zoom.us/webinar/register/WN_1vfWQt1_TdSOj1Laoo8bIw.

DATES: The meeting will be held on May 14, 2021, from 9:00 a.m. to 4:30 p.m., EDT.

ADDRESSES: Register in advance at https://rossstrategic.zoom.us/webinar/register/WN_1vfWQt1_TdSOj1Laoo8bIw to receive information to join the meeting.

FOR FURTHER INFORMATION CONTACT: Ms. Perri Ruckart, Dr. P.H. (candidate), M.P.H., Designated Federal Officer, National Center for Environmental Health, CDC, 4770 Buford Highway, Atlanta, GA 30341, Telephone: (770) 488-3300; PRuckart@cdc.gov.

SUPPLEMENTARY INFORMATION:

Purpose: The Lead Exposure and Prevention Advisory Committee was established under Section 2203 of Public Law 114-322, the Water Infrastructure Improvements for the Nation Act; 42 U.S.C. 300j-27, Registry for Lead Exposure and Advisory Committee. The Secretary, Department of Health and Human Services (HHS) and by delegation, the Director, CDC and Administrator, NCEH/ATSDR, are authorized under Section 2203 of Public Law 114-322 (42 U.S.C. 300j-27) to review research and Federal programs and services related to lead poisoning and to identify effective services and best practices for addressing and preventing lead exposure in communities.

The LEPAC is charged with providing advice and guidance to the Secretary, HHS, and the Director, CDC and Administrator, ATSDR, on (1) reviewing Federal programs and services available to individual communities exposed to lead; (2) reviewing current research on lead exposure to identify additional research needs; (3) reviewing and identifying best practices, or the need for best practices regarding lead screening and the prevention of lead poisoning; (4) identifying effective services, including services relating to healthcare, education, and nutrition for individuals and communities affected by lead exposure and lead poisoning, including in consultation with, as appropriate, the lead exposure registry as established in Section 2203 (b) of Public Law 114-322; and (5) undertaking any other review or activities that the Secretary determines to be appropriate.

Matters To Be Considered: The agenda will include discussions on the Federal Lead Action Plan, American Healthy Homes Survey II, a 40-Year National Health and Nutritional Examination Survey (NHANES) Analysis of lead data, the Blood Lead Reference Value (BLRV) Workgroup, and the 2020 Annual LEPAC Report. Agenda items are subject to change as priorities dictate.

Public Participation

Procedure for Oral Public Comment: The public comment period is scheduled on May 14, 2021, from 11:45 a.m. until 12:00 p.m. Individuals wishing to make a comment during the public comment period, please email your name, organization, and phone number by April 30, 2021, to LEPAC@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-05218 Filed 3-12-21; 8:45 am]

BILLING CODE 4163-18-P